DEPARTMENT OF DEFENSE

GENERAL SERVICES ADMINISTRATION

NATIONAL AERONAUTICS AND SPACE ADMINISTRATION

[OMB Control No. 9000-0147; Docket 2016-0053; Sequence 17]

Information Collection; Pollution Prevention and Right-to-Know Information

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division will be submitting to the Office of Management and Budget (OMB) a request to review and approve an extension of a previously approved information collection requirement concerning pollution prevention and right-to-know information.

DATES: Submit comments on or before July 5, 2016.

ADDRESSES: Submit comments identified by Information Collection 9000-0147, Pollution Prevention and Right-to-Know Information by any of the following methods:

• Regulations.gov: http://www.regulations.gov.

Submit comments via the Federal eRulemaking portal by searching the OMB control number. Select the link “Submit a Comment” that corresponds with “Information Collection 9000-0147, Pollution Prevention and Right-to-Know Information”. Follow the instructions provided at the “Submit a Comment” screen. Please include your name, company name (if any), and “Information Collection 9000-0147, Pollution Prevention and Right-to-Know Information” on your attached document.

• Mail: General Services Administration, Regulatory Secretariat Division (MVCB), 1800 F Street NW., Washington, DC 20405. ATTN: Ms. Flowers/IC 9000-0147, Pollution Prevention and Right-to-Know Information.

Instructions: Please submit comments only and cite Information Collection 9000-0147, Pollution Prevention and Right-to-Know Information, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Charles Gray, Procurement Analyst, Office of Acquisition Policy, GSA, 202-208-6726 or email charles.gray@gsa.gov.

SUPPLEMENTARY INFORMATION:

A. Purpose

The Emergency Planning and Community Right-to-Know Act of 1986 (EPCRA) (42 U.S.C. 11001-11050) and the Pollution Prevention Act of 1990 (PPA), (42 U.S.C. 13101-13109); and Executive Order 13693, Planning for Federal Sustainability in the Next Decade, dated March 25, 2015, require that Federal facilities maintain reports on hazardous materials and toxic chemicals and pollution prevention efforts. In keeping with this mandate, Federal contractors performing at a Federal facility must provide sufficient information to the Federal Government to ensure that the facility is compliant with the E.O., PPA, and EPCRA. This information collection is carried out by means of Federal Acquisition Regulation (FAR) clause 52.223-5, Pollution Prevention and Right-To-Know Information.

B. Annual Reporting Burden

Number of Respondents: 3,035.

Responses per Respondent: 1.6.

Total Annual Responses: 4,713.

Hours per Response: 3.7.

Estimated Total Burden Hours: 17,498.

Needs and uses: This information collection supports the Government's need to collect from contractors the information needed to assure that Federal facilities are compliant with the Emergency Planning and Community right-to-Know Act of 1985, (42 U.S.C. 11001-11050), the Pollution Prevention Act of 1990, (42 U.S.C. 13101-13109), and Executive Order 13693, Planning for Federal Sustainability in the Next Decade, dated March 25, 2015.

Affected Public: Businesses or other-for-profit entities and not-for-profit institutions.

Frequency: On occasion.

C. Public Comments

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control Number 9000-0147, Pollution Prevention and Right-to-Know Information, in all correspondence.

Dated: April 28, 2016.
Lorin S. Curit,
Director, Federal Acquisition Policy Division, Office of Governmentwide Acquisition Policy, Office of Acquisition Policy, Office of Governmentwide Policy.

[FR Doc. 2016-10325 Filed 5-2-16; 8:45 am]

BILLING CODE 6820-EP-P